DEPARTMENT OF COMMERCE

International Trade Administration

[A-570-954, C-570-955]

Certain Magnesia Carbon Bricks From the People's Republic of China: Notice of Court Decision Not in Harmony With the Final Determination in Covered Merchandise Inquiry; and Notice of Amended Final Covered Merchandise Inquiry Determination

AGENCY: Enforcement and Compliance, International Trade Administration, Department of Commerce.

SUMMARY: On October 9, 2025, the U.S. Court of International Trade (CIT) issued its final judgment in Fedmet Resources Corporation v. United States, Court No. 23-00117, sustaining the U.S. Department of Commerce (Commerce)'s remand redetermination pertaining to the covered merchandise inquiry (CMI) related to refractory bricks with added alumina. Commerce is notifying the public that the CIT's final judgment is not in harmony with Commerce's final determination in that CMI, and that Commerce is amending the final CMI determination to find that refractory bricks with added alumina are excluded from the orders.

DATES: Applicable October 19, 2025.

FOR FURTHER INFORMATION CONTACT: Brittany Bauer, AD/CVD Operations, Office V, Enforcement and Compliance, International Trade Administration, U.S. Department of Commerce, 1401 Constitution Avenue NW, Washington, DC 20230; telephone: (202) 482-3860.

SUPPLEMENTARY INFORMATION:

Background

On May 4, 2023, Commerce published its Final CMI Determination, which found that refractory bricks with less than five percent added alumina were magnesia carbon bricks (MCBs) and were, thus, covered by the scope of the Orders.¹

¹ See Certain Magnesia Carbon Bricks from the People's Republic of China: Final Determination in Covered Merchandise Inquiry, 88 FR 28495 (May 4, 2023), and accompanying Issues and Decision Memorandum (Final CMI Determination); see also Certain Magnesia Carbon Bricks from Mexico and the People's Republic of China: Antidumping Duty Orders, 75 FR 57257 (September 20, 2010); and Certain Magnesia Carbon Bricks from the People's Republic of China: Countervailing Duty Order, 75 FR 57442 (September 21, 2010) (collectively, Orders).

Fedmet Resources Corporation appealed Commerce's Final CMI Determination. On December 12, 2024, the CIT remanded the Final CMI Determination to Commerce, holding that precedent from the U.S. Court of Appeals for the Federal Circuit (Federal Circuit) interpreted the scope to not specify a cut-off percentage for low alumina versus high alumina refractory bricks, such that the addition of any alumina to an MCB renders the brick outside the scope of the Orders.²

² See Fedmet Resources Corporation v. United States, Slip Op. 24-136 (CIT December 12, 2024); see also Fedmet Resources Corp. v. United States, 755 F. 3d 912 (Fed. Cir. 2014).

In its final remand redetermination, issued in March 2025, Commerce found, under protest, that MCBs with any added alumina were excluded from the scope of the Orders.³ The CIT sustained Commerce's final redetermination.⁴

³ See Final Results of Redetermination Pursuant to Court Remand, Fedmet Resources Corporation v. United States, Court No. 23-00117, Slip Op. 24-136 (CIT December 12, 2024), dated March 12, 2025, available at https://access.trade.gov/public/FinalRemandRedetermination.aspx.

⁴ See Fedmet Resources Corporation v. United States, Court No. 23-00117, Slip Op. 25-136 (CIT October 9, 2025).

Timken Notice

In its decision in Timken,⁵ as clarified by Diamond Sawblades,⁶ the Federal Circuit held that, pursuant to sections 516A(c) and (e) of the Tariff Act of 1930, as amended (the Act), Commerce must publish a notice of court decision that is not “in harmony” with a Commerce determination and must suspend liquidation of entries pending a “conclusive” court decision. The CIT's October 9, 2025, judgment constitutes a final decision of the CIT that is not in harmony with Commerce's Final CMI Determination. Thus, this notice is published in fulfillment of the publication requirements of Timken.

⁵ See Timken Co. v. United States, 893 F.2d 337 (Fed. Cir. 1990) (Timken).

⁶ See Diamond Sawblades Manufacturers Coalition v. United States, 626 F.3d 1374 (Fed. Cir. 2010) (Diamond Sawblades).

Amended Final Determination

Commerce will instruct U.S. Customs and Border Protection (CBP) that, pending any appeals, the cash deposit rate will be zero percent for refractory bricks with any added alumina. In the event that the CIT's final judgment is upheld on appeal, Commerce will instruct CBP to liquidate entries of refractory bricks with added alumina without regard to antidumping and countervailing duties and to lift suspension of liquidation of such entries.

Notification to Interested Parties

This notice is issued and published in accordance with sections 516A(c) and (e) and 777(i)(1) of the Act.

Dated: December 19, 2025.
Christopher Abbott,
Deputy Assistant Secretary for Policy and Negotiations, performing the non-exclusive functions and duties of the Assistant Secretary for Enforcement and Compliance.

[FR Doc. 2025-23772 Filed 12-23-25; 8:45 am]

BILLING CODE 3510-DS-P